FEDERAL EMERGENCY MANAGEMENT AGENCY

44 CFR Part 67

[Docket No. FEMA-D-7534]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street, SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
ILLINOIS
St. Clair County (Unincorporated Areas)
Silver Creek | Approximately 12,000 feet upstream of the confluence with Kaskaskia River | *397 | *396 | St. Clair County (Unincorporated Areas), City of Mascoutah, City of Lebanon.
| Approximately 1.25 miles upstream of Lebanon Loyett Road | *454 | *451 |
Hog River | At the confluence with Silver Creek | *422 | *418 | St. Clair County (Unincorporated Areas), City of Mascoutah.
| Just upstream of Union Street | *422 | *418 |
Loop Creek | At the confluence with Silver Creek | *422 | *418 | St. Clair County (Unincorporated Areas).
| Approximately 1.5 miles upstream of confluence with Silver Creek | *422 | *421 |
Little Silver Creek | At the confluence with Silver Creek | *432 | *429 | St. Clair County (Unincorporated Areas).
| Approximately 1,500 feet upstream of confluence with Silver Creek | *433 | *432 |
Ogles Creek | At the confluence with Silver Creek | *451 | *449 | St. Clair County (Unincorporated Areas), City of Fairview Heights.
| Approximately 265 feet upstream of Old Collinsville Road | *550 | *551 |
Wolf Branch | Approximately 1,700 feet upstream of confluence with Richland Creek | *501 | *500 | St. Clair County (Unincorporated Areas), Village of Swausea.
| Approximately 920 feet upstream of unnamed road | None | *538 |
Schoenberger Creek | Approximately at North 89th Street | None | *437 | City of Belleville, City of Fairview Heights, City of East St. Louis.
| Approximately 1,500 feet upstream of State Route 161 | None | *482 |
Kaskaskia River | At downstream corporate limits of Village of New Athens | None | *395 | Village of New Athens.
| Approximately 0.78 mile upstream of Illinois Central Railroad crossing | None | *396 | Village of New Athens.
Ponding Areas | Between Illinois Terminal Railroad and Camp Jackson Road | *406 | *404 | Village of Cahokia.
| Approximately 20 feet south of the intersection of Fox Meadow Lane and Paris Avenue | *409 | *404 | Village of Cahokia.
| At intersection of Sterling Place and Bermuda Avenue | None | *422 | Village of Caseyville.
| At intersection of Countryside Drive and Acorde Drive | *419 | *422 | Village of Caseyville.
| North of Harding Ditch, west of Black Lane | *415 | *418 | Village of Caseyville.
| Approximately 1,000 feet northwest of intersection with Interstate Route 64 and State Route 157 | None | *422 | Village of Caseyville.
| Between Interstate 255 and State Route 157 | *410 | *411 | Village of Alorton.
| Approximately 600 feet southeast of the intersection of Pocket Road and State Route 15 and Missouri Avenue | None | *411 | Village of Alorton.
| At the intersection of Lake Drive and East Side Levee and Sanitary Canal District | *411 | *414 | City of Centreville.
| At the intersection of Belleview Avenue and North 80th Street | None | *414 | City of Centreville.
| Approximately 1,000 feet west of the intersection of State Route 15 (New Missouri Avenue and Harding Ditch) | None | *411 | City of Centreville.
| Approximately 1,000 feet west of Collinsville Road | None | *403 | Village of Fairmont City.
| Approximately 700 feet east of the intersection of St. Clair Avenue and Louisville and Nashville Railroad | None | *417 | Village of Washington Park.
| Approximately 300 feet south of the intersection of St. Clair Avenue and Louisville and Nashville Railroad | None | *414 | Village of Washington Park, City of East St. Louis.
| Approximately 500 feet north of the intersection of St. Clair Avenue and Louisville and Nashville Railroad | None | *414 | Village of Washington Park, City of East St. Louis.
| Approximately 500 feet northwest of intersection of Summit Avenue and Michigan Avenue | *413 | *414 | City of East St. Louis.
| Approximately 300 feet northeast of the intersection of Louisville and Nashville Railroad and Kings Highway (State Route 50) | None | *415 | City of East St. Louis.
| Approximately 400 feet east of Ohio Avenue and North 62nd Street | *412 | *414 | City of East St. Louis.
| Intersection of Marybelle Avenue and North 70th Street | *417 | *418 | City of East St. Louis.
| Approximately 500 feet southwest of intersection of State Street and Terrace Drive | *411 | *414 | City of East St. Louis.
| Approximately 600 feet south of intersection of St. Clair Avenue and North 47th Street | *411 | *414 | City of East St. Louis.
| North of Cahokia Canal, west of Madison Road east of Industrial Avenue | None | *407 | St. Clair County (Unincorporated Areas).
| Approximately 1,000 feet west of the intersection of Collinsville Road and Cookson Road | None | *403 | St. Clair County (Unincorporated Areas).
| At intersection of Site Road and Park Road | *410 | *411 | St. Clair County (Unincorporated Areas).
| Approximately 400 feet east of intersection of Pocket Road and Site Road | None | *411 | St. Clair County (Unincorporated Areas).
| At intersection of Park Drive and Major Street | *416 | *418 | St. Clair County (Unincorporated Areas).
| Approximately 800 feet west of intersection of Stowers Road and Bernia Street | None | *421 | St. Clair County (Unincorporated Areas).
| At intersection of Watts Street and Brinson Drive | *415 | *418 | St. Clair County (Unincorporated Areas).
| Approximately 0.5 mile east of intersection of Watts Street and Brinson Drive | None | *418 | St. Clair County (Unincorporated Areas), Village of Washington Park.
| At intersection of Caseyville Road and Bunkum Road | *419 | *422 | St. Clair County (Unincorporated Areas), Village of Washington Park.
| At intersection of North 82nd Street and Bunkum Road | None | *422 | St. Clair County (Unincorporated Areas), Village of Washington Park.
| At intersection of Rock Springs Road and McKinley Avenue | None | *422 | St. Clair County (Unincorporated Areas), Village of Washington Park.
| North of Old Cahokia Canal and south of County Road boundary | None | *415 | St. Clair County (Unincorporated Areas), Village of Washington Park.
| Approximately 1,000 feet northeast of the intersection of Mullins Creek Road and Prairie du Pont Creed | None | *418 | St. Clair County (Unincorporated Areas).
| South of Cahokia Canal, north of CSX Transportation and southwest of Old Cahokia Canal | None | *403 | St. Clair County (Unincorporated Areas).
| Approximately 1,000 feet east of the intersection of Rock Springs Road and St. Clair Avenue | None | *415 | St. Clair County (Unincorporated Areas).
| Approximately 750 feet west of the intersection of Lake Drive and North 88th Street | None | *414 | St. Clair County (Unincorporated Areas).
| Approximately 400 feet south of the intersection of U.S. Route 255 (County Route 3) | *401 | *404 | St. Clair County (Unincorporated Areas).
Ponding Areas (along Harding Ditch) | Approximately 700 feet southeast of the intersection of State Route 157 and Carol Street | *410 | *411 | St. Clair County (Unincorporated Areas).
Addresses
Village of Alorton
Maps available for inspection at the Alorton Village Hall, 4821 Bond Avenue, Alorton, Illinois.
Send comments to The Honorable Carolyn Williams, Mayor of the Village of Alorton, 4821 Bond Avenue, Alorton, Illinois 62207.
City of Belleville
Maps available for inspection at the Belleville Department of Economic Development & Planning, 101 South Illinois Street, Belleville, Illinois.
Send comments to The Honorable Mark A. Kern, Mayor of the City of Belleville, 101 South Illinois Street, Belleville, Illinois 62220.
Village of Cahokia
Maps available for inspection at the Cahokia Code Enforcement Department, 201 West 4th Street, Cahokia, Illinois.
Send comments to The Honorable Danita Reed, Mayor of the Village of Cahokia, 103 Main Street, Illinois 62206.
Village of Caseyville
Maps available for inspection at the Caseyville Village Hall, 10 West Morris Street, Caseyville, Illinois.
Send comments to The Honorable George C. Chance, Mayor of the Village of Caseyville, 10 West Morris Street, Caseyville, Illinois 62232.
City of Centreville
Maps available for inspection at the Centreville City Hall, 5800 Bond Avenue, Centreville, Illinois.
Send comments to The Honorable Frankie Seaberry, Mayor of the City of Centreville, 5800 Bond Avenue, Centreville, Illinois 62207.
City of East St. Louis
Maps available for inspection at the East St. Louis Municipal Building, 301 River Park Drive, East St. Louis, Illinois.
Send comments to The Honorable Debra Powell. Mayor of the City of East St. Louis, 301 River Park Drive, East St. Louis, Illinois 62201.
Village of Fairmont City
Maps available for inspection at the Fairmont City Village Hall, 2601 North 41st Street, Fairmont City, Illinois.
Send comments to Mr. Alex Bregen, Fairmont City Village President, 2601 North 41st Street, Fairmont City, Illinois 62201.
City of Fairview Heights
Mae for inspection at the City of Fairview Heights Municipal Building, 10025 Bunkum Road, Fairview Heights, Illinois.
Send comments to The Honorable Gail D. Mitchell, Mayor of the City of Fairview Heights, 10025 Bunkum Road, Fairview Heights, Illinois 62208.
City of Lebanon
Maps available for inspection at the Lebanon City Hall, 312 West St. Louis Street, Lebanon, Illinois.
Send comments to The Honorable Matthew Berberich, Mayor of the City of Lebanon, 312 West St. Louis Street, Lebanon, Illinois 62254.
City of Mascoutah
Maps available for inspection at the Mascoutah City Hall, #3 West Main Street, Mascoutah, Illinois.
Send comments to The Honorable Gerald E. Daugherty, Mayor of the City of Mascoutah, #3 West Main Street, Mascoutah, Illinois 62258.
Village of New Athens
Maps available for inspection at the New Athens Village Hall, 905 Spotsylvania Street, New Athens, Illinois.
Send comments to Mr. Dennis Breithaupt, New Athens Village President, 905 Spotsylvania Street, New Athens, Illinois 62264.
St. Clair County (Unincorporated Areas)
Maps available for inspection at the St. Clair County Department of Building and Zoning, 10 Public Square, Belleville, Illinois.
Send comments to Mr. John Baricevic, Chairman of the St. Clair County Board, 10 Public Square, Belleville, Illinois 62220-1623.
Village of Swansea
Maps available for inspection at the Swansea Government Center, 1400 North Illinois Street, Swansea, Illinois.
Send comments to Mr. Michael S. Buehlhorn, President of the Village of Swansea Board of Trustees, 1400 North Illinois Street, Swansea, Illinois 62226.
Village of Washington Park
Maps available for inspection at the Washington Park Village Hall, 5218 North Park Drive, Washington Park, Illinois.
Send comments to The Honorable Sherman Sorrell, Mayor of the Village of Washington Park, 5218 North Park Drive, Washington Park, Illinois 62204.
For further information please contact the Map Assistance Center toll free at: 1-877-FEMA-MAP (1-877-336-2627).
INDIANA
Adams County (Unincorporated Areas)
Yellow Creek | At the confluence with St. Marys River | None | *790 | Adams County (Unincorporated Areas)
| Approximately 1,750 feet upstream of Norfolk & Western Railroad | None | *790
Blue Creek | At the confluence with St. Marys River | None | *793 | Adams County (Unincorporated Areas)
| At U.S. Route 27 | None | *836
St. Marys River | At South County Line Road | None | *751 | Adams County (Unincorporated Areas), City of Decatur
| At the upstream state boundary | None | *794 |
Addresses
Adams County (Unincorporated Areas)
Maps available for inspection at the Office of the Adams County Board of Commissioners, 313 West Jefferson, Room 251, Decatur, Indiana.
Send comments to Mr. Steve Bauman, President of the Adams County Board of Commissioners, 313 West Jefferson, Room 251, Decatur, Indiana 46733.
City of Decatur
Maps available for inspection at the Decatur City Hall, 225 West Monroe Street, Decatur, Indiana.
Send comments to The Honorable Fred R. Isch, Mayor of the City of Decatur, 225 West Monroe Street, Decatur, Indiana 46733.
INDIANA
Allen County (Unincorporated Areas)
Cedar Creek | Approximately 0.5 mile upstream of State Route 1 | *778 | *779 | Allen County (Unincorporated Areas), Town of Leo-Cedarville
| Approximately 790 feet downstream of North County Line Road | *815 | *816
Little Cedar Creek | At the confluence with Cedar Creek | *811 | *812 | Allen County (Unincorporated Areas)
| Approximately 0.41 mile upstream of Fitch Road | *818 | *819
Maumee River | At a point approximately 0.3 mile downstream of Scipio Road | *726 | *725 | Allen County (Unincorporated Areas)
| At a point approximately 0.2 mile downstream of Bruick Road | *746 | *745
St. Joseph River | At a point approximately 0.85 mile upstream of Halter Road | *780 | *779 | Allen County (Unincorporated Areas), City of Fort Wayne
| Approximately 0.2 mile upstream of Roth Road | *787 | *788
St. Marys River | Approximately 530 feet upstream of Hoagland Road | *774 | *775 | Allen County (Unincorporated Areas)
| Approximately 0.5 mile upstream of Hoagland Road | *774 | *775
Fairfield/Harber Ditch | Approximately 0.1 mile upstream of Norfolk Southern Railway | *764 | *763 | Allen County (Unincorporated Areas), City of Fort Wayne
| Approximately 0.26 mile upstream of Lower Huntington Road | *774 | *773
Addresses
Allen County (Unincorporated Areas)
Maps available for inspection at the Allen County Planning Service Department, 1 East Main Street, Room 630, City/County Building, Fort Wayne, Indiana.
Send comments to Ms. Linda K. Bloom, President of the Allen County Board of Commissioners, 1 East Main Street, Room 200, City/County Building, Fort Wayne, Indiana 46802.
City of Fort Wayne
Maps available for inspection at the Fort Wayne Planning Department, 1 Main Street, 8th Floor, City/County Building, Fort Wayne, Indiana.
Send comments to The Honorable Graham Richard, Mayor of the City of Fort Wayne, 1 Main Street, Room 900, City/County Building, Fort Wayne, Indiana 46802-1804.
Town of Leo-Cedarville
Maps available for inspection at the Leo-Cedarville Town Office, 14435 State Road One, Leo, Indiana.
Send comments to Ms. Jann Linn, President of the Leo-Cedarville Town Council, P.O. Box 408, Leo, Indiana 46765.

(Catalog of Federal Domestic Assistance No. 83.100, “Flood Insurance”)
Dated: July 2, 2002.
Robert F. Shea,
Acting Administrator, Federal Insurance and Mitigation Administration.

[FR Doc. 02-17271 Filed 7-9-02; 8:45 am]

BILLING CODE 6718-04-P